DEPARTMENT OF HOMELAND SECURITY

Bureau of Citizenship and Immigration Services

[CIS No. 2261-03]

Notice of Circuit Ride Location Changes for the Chicago and Houston Asylum Offices

AGENCY: Bureau of Citizenship and Immigration Services, Department of Homeland Security.

ACTION: Notice.

SUMMARY: This notice informs asylum applicants and applicants for relief under section 203 of the Nicaraguan Adjustment and Central American Relief Act (NACARA 203) of changes in certain asylum and NACARA 203 interview locations. Specifically, this notice advises certain asylum and NACARA 203 applicants within the jurisdiction of the Bureau of Citizenship and Immigration Services (CIS), Chicago, Illinois Asylum Office and the Houston, Texas Asylum Office of a change in the location where they will be scheduled for an asylum interview.

DATES: This notice is effective May 3, 2004.

FOR FURTHER INFORMATION CONTACT: Joanna Ruppel, Deputy Director, Asylum Division, Office of Asylum and Refugee Affairs, Bureau of Citizenship and Immigration Services, Department of Homeland Security, 425 I Street, NW., Attn: ULLICO, Third Floor, Washington, DC 20536; telephone (202) 305-2714.

SUPPLEMENTARY INFORMATION:

Background

The CIS has eight Asylum Offices at the following locations: Arlington, Virginia; Chicago, Illinois; Houston, Texas; Los Angeles, California; Miami, Florida; Lyndhurst, New Jersey; San Francisco, California; and Rosedale, New York. Asylum Office locations were chosen because they are close to where most asylum applicants reside.

While most asylum interviews within the jurisdiction of six of the eight Asylum Offices are conducted at the home Asylum Offices, Asylum Officers also routinely travel to CIS District and Sub Offices to interview asylum applicants and NACARA 203 applicants who reside farther from the local Asylum Offices. Interviews conducted at these District and Sub Office locations are known as circuit ride interviews. As populations of asylum seekers have changed over time, the number of individuals interviewed at circuit ride locations has significantly increased for the Houston and Chicago Asylum Offices. In fiscal year 1995, just over 30 percent of applications received by the Houston Asylum Office and just over 50 percent of the applications received by the Chicago Asylum Office were from individuals to be interviewed at circuit ride locations. Since fiscal year 2000, however, approximately 57 percent of the applications received by the Houston Asylum Office and 64 percent of the applications received by the Chicago Asylum Office have been from individuals to be interviewed at circuit ride locations. In contrast, between 4 percent and 20 percent of the applications filed at the other five Asylum Offices that circuit ride to CIS District Offices to conduct interviews were filed by individuals who reside within the circuit ride jurisdictions of those offices.

Section 208 of the Immigration and Nationality Act provides that, in the absence of exceptional circumstances, the first asylum interview or hearing on an asylum application shall commence before 45 days after the date an application is filed, and the final administrative adjudication of the asylum application, excluding administrative appeal, shall be completed within 180 days after the date an application is filed. If a final determination is not made on the asylum application within 150 days, the applicant becomes eligible to apply for employment authorization. If the asylum application is still pending after 180 days, CIS must grant the application for employment authorization. This statutory provision is based on a key component of the success of asylum reform, which was to minimize the number of individuals who could obtain employment authorization by submitting an application for asylum.

Applicants at circuit ride locations are more likely to become eligible for employment authorization based on the fact that their asylum applications often are not adjudicated within 180 days (because of the infrequency in which circuit ride interviews can be scheduled). Eliminating and consolidating circuit ride locations would enable the Chicago and Houston Asylum Offices to adjudicate more asylum applications within the 180 day timeframe, thus preventing ineligible applicants from obtaining employment authorization based solely on the filing of an asylum application and more quickly providing benefits to those who qualify for asylum.

Conducting asylum interviews at circuit ride locations is less efficient and more resource intensive than conducting asylum interviews at Asylum Offices. While on circuit rides Asylum Officers do not have access to many of the decision-making tools normally available when interviewing in their home office. Circuit ride interview space is limited, which restricts the number of interviews that can be scheduled at the circuit ride site. The time Asylum Officers spend traveling to circuit ride locations significantly detracts from the overall number of asylum interviews the Houston and Chicago Asylum Offices are able to complete each year, resulting in delays in asylum determinations for many asylum seekers interviewed at circuit ride locations.

To improve its asylum case processing, the CIS will eliminate two Houston Asylum Office circuit ride locations, Harlingen, Texas, and New Orleans, Louisiana, requiring certain applicants currently residing within those jurisdictions to travel to the Houston Asylum Office for their interview. Also, CIS will eliminate two Chicago Asylum Office circuit ride locations, Cincinnati, Ohio, and Louisville, Kentucky. Asylum applicants currently interviewed in Cincinnati will travel to the CIS District Office in Cleveland, Ohio for their interview. Applicants currently interviewed in Louisville, Kentucky, will travel to the Chicago Asylum Office for their interview.

Nationally, most existing circuit ride locations will be unchanged and Asylum Officers will continue to circuit ride to the majority of existing circuit ride locations. However, elimination and/or consolidation of the circuit ride locations noted below will reduce the number of interview locations that require Asylum Officer travel and enable Asylum Officers to conduct more interviews each trip at the consolidated circuit ride locations. In making the determination to eliminate certain circuit ride locations, the CIS has carefully considered the additional burden the changes will make to some asylum seekers and NACARA 203 applicants who will be required to travel greater distances for their asylum interviews. However, the CIS determined that the benefit of more timely adjudications for a larger number of asylum seekers outweighs the burden certain asylum seekers will experience in traveling a greater distance to their interviews. Consequently, the CIS is giving notice of the following changes.

Houston Asylum Office

Effective May 3, 2004, all asylum and NACARA 203 applicants who reside within the jurisdiction of the CIS District Office in Harlingen, Texas, will have their asylum and/or NACARA 203 interviews conducted at the Houston Asylum Office. Also, all asylum and NACARA 203 applicants who reside within the jurisdiction of the CIS District Office in New Orleans, Louisiana, except residents of Arkansas, Tennessee, and Mississippi (who currently interview in Memphis, Tennessee) will have their asylum and/or NACARA 203 interviews conducted at the Houston Asylum Office. The Houston Asylum Office will no longer circuit ride to Harlingen, Texas, or New Orleans, Louisiana. Residents of Arkansas, Tennessee and Mississippi who are currently being interviewed in the Memphis Sub Office will continue to be interviewed there. All other Houston Asylum Office circuit ride sites—Denver, Colorado; El Paso, Texas; Memphis, Tennessee; and Salt Lake City, Utah—will continue to serve as circuit ride interview locations.

Chicago Asylum Office

Effective May 3, 2004, the Chicago Asylum Office will no longer circuit ride to Cincinnati, Ohio. All asylum and NACARA 203 applicants who reside within the state of Ohio zip code areas 43000-43399 (the Columbus zip code area), 43400-43699 (the Toledo zip code area), 44800-44999 (the Mansfield zip code area), 45000-45299 (the Cincinnati zip code area), 45300-45599 (the Dayton zip code area), 45600-45699 (the Chilicothe zip code area), 45800-45899 (the Lima zip code area), and the State of Indiana zip code areas 47000-47099 will have their asylum and/or NACARA 203 interviews conducted in the Chicago Asylum Office.

All asylum and NACARA 203 applicants who reside within the state of Ohio zip code areas 43700-43899 (the Zanesville zip code area) and 45700-45799 (the Athens zip code area) will have their circuit ride interviews conducted at the CIS District Office in Cleveland, Ohio, instead of at the CIS Sub Office in Cincinnati, Ohio.

All asylum and NACARA 203 applicants who reside in the state of Kentucky zip code areas 40000-40299 (the Louisville zip code area) and 41000-41099 (the Cincinnati zip code area) will have their interviews conducted in the Chicago Asylum Office, instead of at the CIS Sub Office in Louisville, Kentucky.

Each asylum and NACARA 203 applicant affected by these changes in interview locations will be notified of the changed interview location when he or she is sent an Interview Notice, notifying the applicant of the date, time, and place of the interview. Interviews that have already been scheduled to take place will not be affected by this notice and will be conducted as scheduled.

Dated: March 29, 2004.
Eduardo Aguirre,
Director, Bureau of Citizenship and Immigration Services.

[FR Doc. 04-7403 Filed 4-01-04; 8:45 am]

BILLING CODE 4410-10-P